DEPARTMENT OF TRANSPORTATION

Federal Aviation Administration

Notice of Availability of Government-Owned Invention for Licensing

AGENCY: Federal Aviation Administration, DOT.

ACTION: Notice.

SUMMARY: The Federal Aviation Administration hereby gives notice of the general availability of exclusive or partially exclusive licenses under the following pending patent. Any license granted shall comply with 35 U.S.C. 209 and 37 CFR part 404. Applications will be evaluated utilizing the following criteria: (1) Ability to further develop the invention to practical application; (2) ability to manufacture and market the developed technology; (3) time required to bring technology to market and rate of production; (4) royalties and royalty structure; and, (5) small business status. Because the invention was made at the Federal Aviation Administration's William J. Hughes Technical Center and may require additional development, the FAA may license the invention under a Cooperative Research and Development Agreement as provided for by the Federal Technology Transfer Act, as amended, 15 U.S.C. 3710a.

Patent application Serial Number 09/741,871 entitled “Heat Release Rate Calorimeter for Milligram Samples” was filed 22 December 2000. Corresponding foreign patent applications have been filed in select countries. The application discloses a calorimeter that measures heat release rates of very small samples (on the order of one to 10 milligrams) without the need to separately and simultaneously measure the mass loss rate of the sample and the heat of combustion of the fuel gases produced during the fuel generation process. The sample is thermally decomposed in a small volume pyrolysis chamber. The resulting fuel gases are immediately swept by an inert gas stream from the pyrolysis chamber into a combustion furnace in the order in which they are produced, essentially in a plug-like flow. This plug flow substantially synchronizes the emerging fuel gases with the mass loss rate of the sample. Oxygen is metered into the fuel gas stream just before it enters the combustion furnace where the fuel gases are completely oxidized. The effluent from the furnace is analyzed to determine the amount of oxygen consumed per unit time and the heat release rate is computed using well-known transformations without the need to separately measure the mass loss rate of the sample. Results are comparable to time and labor intensive methods requiring the use of a thermogravimetric analyzer/gas chromatograph—mass spectrometer technique.

DATES: Applications for an exclusive or partially exclusive license may be submitted at any time from the date of this notice.

ADDRESSES: Interested parties may contact James Drew, Senior Attorney, ACT-7, Federal Aviation Administration William J. Hughes Technical Center, Atlantic City International Airport, New Jersey 08405, or by email to james.drew@faa.gov.

FOR FURTHER INFORMATION CONTACT: Dr. Richard E. Lyon, AAR-422, Federal Aviation Administration William J. Hughes Technical Center, Atlantic City International Airport, New Jersey 08405, telephone (609) 485-6076, or by email to richard.e.lyon@faa.gov.

Dated: September 16, 2002.
James J. Drew,
Senior Attorney, Intellectual Property.

[FR Doc. 02-24453 Filed 9-25-02; 8:45 am]

BILLING CODE 4910-13-U